DEPARTMENT OF VETERANS AFFAIRS

38 CFR PART 17

RIN 2900-AM99

Civilian Health and Medical Program of the Department of Veterans Affairs (CHAMPVA): Preauthorization of Durable Medical Equipment

AGENCY: Department of Veterans Affairs.

ACTION: Final rule.

SUMMARY: This document amends the Department of Veterans Affairs (VA) medical regulations for the Civilian Health and Medical Program of the Department of Veterans Affairs (CHAMPVA) preauthorization section by increasing the dollar ceiling for purchase or rental of durable medical equipment (DME) from $300 to $2,000.

DATES: Effective Date: The final rule is effective July 31, 2009.

FOR FURTHER INFORMATION CONTACT: Lisa Brown, Chief, Policy Management Division, VA Health Administration Center, P.O. Box 460948, Denver, Colorado 80246; (303) 331-7882. (This is not a toll-free number).

SUPPLEMENTARY INFORMATION: In a document published in the Federal Register on October 28, 2008 (73 FR 63914), VA proposed to amend its medical regulations at 38 CFR Part 17 concerning CHAMPVA benefits. Specifically, it proposed to amend § 17.273(e) regarding durable medical equipment (DME) by increasing the dollar ceiling for purchase or rental of durable medical equipment (DME) from the $300 to $2,000.

CHAMPVA is a VA medical benefits program for (1) spouses and children of veterans who have a permanent and total service-connected disability and (2) surviving spouses and children of veterans who died as a result of a service-connected disability or while rated permanently and totally disabled from a service-connected disability, or who died in the active military, naval, or air service in the line of duty and there is not otherwise entitlement to Department of Defense TRICARE benefits. DME is included among the health care items that are available to CHAMPVA beneficiaries. To ensure that DME purchases and rental are medically necessary, appropriate and within the Department's budgetary constraints, VA requires non-VA providers to obtain preauthorization before the purchase or rental of DME for a CHAMPVA beneficiary when the cost of the DME exceeds $300. DME purchases greater than $300 are currently reviewed twice, i.e., first when a request is submitted for preauthorization and again when the claim is officially submitted for payment.

The current rate was put in place in 1973. Since the cost of common DME items has steadily increased, this ceiling no longer reflects current costs. Raising the dollar amount to $2,000 would make the administrative processing of DME claims easier for CHAMPVA beneficiaries and providers as well as for VA, since claims under that amount will only be reviewed once.

VA provided a 60-day comment period that ended December 29, 2008. We received one comment from five individuals who jointly expressed their support for the proposed amendment to § 17.273(e). Based on the rationale set forth in the proposed rule, we are adopting the provisions of the proposed rule as a final rule without change.

Unfunded Mandates

The Unfunded Mandates Reform Act of 1995, requires that agencies prepare an assessment of anticipated costs and benefits before developing any rule that may result in expenditure by State, local, and Tribal governments, in the aggregate, or by the private sector, of $100 million or more (adjusted annually for inflation) in any given year. This final rule would have no such effect on State, local, and Tribal governments, or on the private sector.

Paperwork Reduction Act of 1995

This document contains no provisions constituting a collection of information under the Paperwork Reduction Act of 1995 (44 U.S.C. 3501-3521).

Executive Order 12866

Executive Order 12866 directs agencies to assess all costs and benefits of available regulatory alternatives and, when regulation is necessary, to select regulatory approaches that maximize net benefits (including potential economic, environmental, public health and safety, and other advantages; distributive impacts; and equity). The Order classifies a rule as a “significant regulatory action” requiring review by Office of Management and Budget (OMB) unless OMB waives such review, as any regulatory action that is likely to result in a rule that may: (1) Have an annual effect on the economy of $100 million or more or adversely affect in a material way the economy, a sector of the economy, productivity, competition, jobs, the environment, public health or safety, or State, local, or Tribal government or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

VA has examined the economic, interagency, budgetary, legal, and policy implications of this final rule and has concluded that it is not a significant regulatory action under the Executive Order 12866.

Regulatory Flexibility Act

The Secretary of Veterans Affairs hereby certifies that this regulatory amendment will not have a significant economic impact on a substantial number of small entities as they are defined in the Regulatory Flexibility Act, 5 U.S.C. 601-612. Individuals eligible for CHAMPVA benefits are widely dispersed geographically and thus services provided to them would not have a significant impact on any small entity. Therefore, pursuant to 5 U.S.C. 605(b), this rule is exempt from the initial and final regulatory flexibility analyses requirements of section 603 and 604.

Catalog of Federal Domestic Assistance

This final rule affects the Civilian Health and Medical Program of the Department of Veterans Affairs (CHAMPVA), for which there is no Catalog of Federal Domestic Assistance program number.

List of Subjects in 38 CFR Part 17

Administrative practice and procedure, Alcohol abuse, Alcoholism, Claims, Day care, Dental health, Drug abuse, Foreign relations, Government contracts, Grant programs—health, Health facilities, Health professionals, Health records, Homeless, Medical and dental schools, Medical devices, Medical research, Mental health programs, Nursing homes, Philippines, Reporting and recordkeeping requirements, Travel and transportation expenses, and Veterans.

Approved: June 22, 2009.
John R. Gingrich,
Chief of Staff, Department of Veterans Affairs.

For the reasons stated above, the Department of Veterans Affairs amends 38 CFR part 17 as follows:

PART 17—MEDICAL

1. The authority citation for part 17 continues to read as follows:

Authority: 38 U.S.C. 501, 1721, and as noted in specific sections.

2. Revise paragraph (e) of § 17.273 to read as follows:

§ 17.273 Preauthorization.

* * * * *

(e) Durable medical equipment with a purchase or total rental price in excess of $2,000.

* * * * *

Authority: 38 U.S.C. 501, 1781.

[FR Doc. E9-15484 Filed 6-30-09; 8:45 am]

BILLING CODE 8320-01-P